DEPARTMENT OF COMMERCE

National Oceanic and Atmospheric Administration

[I.D. 100605D]

Western Pacific Fishery Management Council; Public Meeting

AGENCY: National Marine Fisheries Service (NMFS), National Oceanic and Atmospheric Administration (NOAA), Commerce.

ACTION: Notice; public meeting; public hearing.

SUMMARY: The Western Pacific Fishery Management Council (Council) will meet to discuss measures for reducing interactions between seabirds and longline fishing.

DATES: The meeting will be held on Tuesday, November 1, 2005, at 12 noon HST.

ADDRESSES: The meeting will be held via telephone conference call at the Council office, 1164 Bishop St., Suite 1400, Honolulu, HI 96813; telephone: (808) 522-8220; fax: (808) 522-8226. The call-in number for the conference call is: (866) 867-8289, and the passcode is: 1683776.

FOR FURTHER INFORMATION CONTACT: Kitty M. Simonds, Council Executive Director; telephone: (808) 522-8220.

SUPPLEMENTARY INFORMATION: The items of discussion in the Council meeting's agenda are as follows:

1. Pelagic Fisheries.

On April 6, 2005, the Council transmitted to NMFS an amendment to the Council's Fishery Management Plan for Pelagic Fisheries in the Western Pacific (FMP), that recommended new measures for mitigating interactions between pelagic longline vessels and seabirds. This amendment would require all Hawaii-based longline fishing vessels to either (a) side-set (deploy longline gear from the side of the vessel rather than from the stern), or (b) use a combination of other mitigation measures to prevent seabirds (e.g., Laysan and black-footed albatrosses), from being accidentally hooked or entangled during fishing operations in certain areas. These measures would also reduce the potential for fishery interactions with endangered short-tailed albatrosses that are known to be in the area in which the fishery operates. On July 13, 2005, NMFS published a proposed rule (70 FR 40302) with a request for public comments. Comments received indicated that modification of some aspects of the proposed measures should be considered, based on recent observer and experimental observations.

Under the proposed rule, seabird mitigation measures would be required everywhere for Hawaii-based vessels using shallow-set longline fishing gear, and north of 23°N latitude for Hawaii-based vessels using deep-set longline fishing gear. Operators of shallow-setting longline vessels that elect not to side-set would continue to be required to use thawed, blue-dyed bait, to start and complete the setting process during the night (specifically to begin deployment of the gear no earlier than one hour after local sunset and to finish deployment no later than local sunrise), and to strategically discard fish offal (i.e., on the opposite side from where the longline is being set). Under the proposed rule, they would also be required to employ a bird scaring device, or tori line, in addition to the above measures.

Public comments received on the proposed rule questioned the need to deploy tori lines on shallow-setting vessels. Also, recent analyses of information collected by Federal observers (required on all Hawaii-based shallow-setting longline vessels) in the first half of 2005 found that seabird interaction rates during this time period were less than 10% of the historical average. This appears to result from the night-setting requirement established in 2004, and is consistent with earlier research results. The Council will, therefore, consider action to modify the proposed rule to remove the tori line requirement for these vessels.

Under the proposed rule, 60 g (2.1 oz) weights would be required within one meter of each hook when side-setting. Public comments received during the development of the amendment and on the proposed rule indicated that there were serious safety concerns about the required use of these relatively large weights, although such weights are currently used on some vessels. Commenters stated that fishery participants can be and have been seriously injured or killed when struck by longline weights ricocheting from snapped lines. Although the original trials which led to the development of the amendment employed 60 g weights, subsequent research found that the sink times of 40g and 60 g weights differ by only a tenth of a second, suggesting that the 45 g weights, which are most commonly employed in the Hawaii-based longline fishery, would not affect the efficacy of side-setting in minimizing seabird interactions. Therefore, the Council will also consider action to require weights of 45 g or heavier when side-setting, instead of the 60 g weights included in the proposed rule.

A public hearing will be held during the Council meeting to give the public opportunity to comment before the Council takes action on this agenda item.

2. Other Business.

Although non-emergency issues that are not contained in this agenda may come before the Council for discussion, those issues may not be the subject of formal Council action during this meeting. Council action will be restricted to those issues specifically listed in this document and to any issue arising after publication of this document that requires emergency action under section 305(c) of the Magnuson-Stevens Act, provided that the public has been notified of the Council's intent to take final action to address the emergency.

Special Accommodations

This meeting is physically accessible to people with disabilities. Requests for sign language interpretation or other auxiliary aids should be directed to Kitty M. Simonds, telephone: (808) 522-8220, fax: (808) 522-8226, at least 5 working days prior to the meeting date.

Dated: October 6, 2005.
Emily Menashes,
Acting Director, Office of Sustainable Fisheries, National Marine Fisheries Service.

[FR Doc. E5-5592 Filed 10-12-05; 8:45 am]

BILLING CODE 3510-22-S